DEPARTMENT OF AGRICULTURE

Forest Service

Goose Creek Watershed Livestock Grazing Analysis on the Tongue Ranger District, Bighorn National Forest, Sheridan and Johnson Counties, WY

AGENCY: Forest Service, USDA.

ACTION: Notice of intent to prepare an environmental impact statement.

SUMMARY: The USDA, Forest Service, will prepare an environmental impact statement (EIS) to update range management planning on seven (7) cattle and horse allotments in the Goose Creek area, which will result in development of new allotment management plans (AMPs). The agency gives notice of the full environmental analysis and decision-making process that will occur on the proposal so that interested and affected people may become aware of how they may participate in the process and contribute to the final decision.

DATES: Comments and input regarding the proposal were requested from the public, other groups and agencies, via a legal notice published in the Casper Star-Tribune November 7, 2007. Additional comments may be made at the addresses below, and would be most helpful if submitted within thirty days of the publication of this notice. Based on past actions of this type, the Responsible Official has determined that an environmental impact statement will be prepared for this project. The draft environmental impact statement is expected March 2009, and the final environmental impact statement is expected June 2009.

ADDRESSES: Send written comments to Clarke McClung, Tongue District Ranger, 2013 Eastside Second Street, Sheridan, Wyoming 82801.

FOR FURTHER INFORMATION CONTACT: Laurie Walters-Clark, Interdisciplinary Team Leader, Bighorn National Forest, phone (307) 674-2600.

SUPPLEMENTARY INFORMATION: The allotments are located approximately 25 miles by road, west of Sheridan, Wyoming in the Big Goose drainage. National Forest System lands within the Bighorn National Forest will be considered in the proposal. The purpose of the analysis is to determine if livestock grazing will continue on the analysis area. If the decision is to continue livestock grazing, then updated management strategies outlining how livestock will be grazed will be developed to assure implementation of the 2005 Revised Bighorn National Forest Land and Resource Management Plan (Forest Plan) management direction. The analysis will consider actions that continue to improve trends in vegetation, watershed conditions, and ecological sustainability relative to livestock grazing within the allotments. Management actions are proposed to be implemented beginning in the year 2011.

The Bighorn Forest Plan identifies livestock grazing as an appropriate use and makes initial determinations for land scapable and suitable for grazing by domestic livestock. The seven allotments involved are: Big Goose, Little Goose, Rapid Creek, Little Goose Canyon, Walker Prairie, Tourist, and Stull Lakes.

Purpose and Need for Action: The purpose of this project is to determine if livestock grazing will continue to be authorized on the seven allotments, and if it is to continue, how to best utilize adaptive management strategies to maintain or achieve desired conditions and meet forest plan objectives. Livestock grazing is currently occurring on most of the allotments under existing allotment management plans (AMPs) and through direction provided in the Annual Operating Instructions (AOI). Portions of the Stull Lakes allotment are vacant; however, livestock grazing is occurring on the Antler Creek portion. Continuation of livestock grazing will require the review of existing management strategies and, if necessary, updating them to implement forest plan direction and meet Section 504 of Public Law 104-19 (Rescission Bill, signed 7/27/95). The results of this analysis may require modifying term grazing permits. Modification will be documented in updated AMPs for the allotments.

Proposed Action: The proposed action is to continue livestock grazing using adaptive management strategies to meet or move toward Forest Plan and allotment-specific desired conditions. This includes changing livestock management strategies and construction of additional improvements (fences and water developments).

Possible Alternatives: Two additional alternatives have been identified to date: (1) No action; remove livestock grazing from these allotments, and (2) No change; continuance of current management strategies.

Responsible Official: Clarke McClung, District Ranger, Tongue Ranger District, Bighorn National Forest, 2013 Eastside 2nd Street, Sheridan, Wyoming 82801.

Nature of Decision To Be Made: The Responsible Official will consider the results of the analysis and its finding and then document the final decision in a Record of Decision (ROD). The decision will determine whether or not to authorize livestock grazing on all, part, or none of the allotments, and if so, what adaptive management design criteria, adaptive options, and monitoring will be implemented so as to meet or move toward the desired conditions in the defined timeframe.

Scoping Process: Formal scoping for this project occurred in November 2007.

Early Notice of Importance of Public Participation in Subsequent Environmental Review: A draft environmental impact statement will be prepared for comment. The comment period on the draft environmental impact statement will be 45-days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: June 4, 2008.
Clarke McClung,
Tongue District Ranger.

[FR Doc. E8-13060 Filed 6-11-08; 8:45 am]

BILLING CODE 3410-11-M